FEDERAL COMMUNICATIONS COMMISSION

[WP Docket No. 07-100; DA 20-1048; FRS 17074]

Public Safety and Homeland Security Bureau and Wireless Telecommunications Bureau Announce Temporary Filing Freeze on the Acceptance and Processing of Certain Applications for the 4940-4990 MHz Band

AGENCY: Federal Communications Commission.

ACTION: Notice.

SUMMARY: In this document, the Public Safety and Homeland Security Bureau and the Wireless Telecommunications Bureau (the Bureaus) announce a temporary freeze, effective September 8, 2020, on the acceptance and processing of certain applications related to private land mobile radio services in the 4.9 GHz band (4940-4990 MHz). Pursuant to this freeze, applications for new or modified operations in the 4.9 GHz band will not be accepted and pending applications will not be processed unless they meet limited exceptions.

DATES: Effective September 8, 2020.

ADDRESSES: Federal Communications Commission, 445 12th Street SW, Washington, DC 20554.

FOR FURTHER INFORMATION CONTACT: For additional information regarding this Public Notice, please contact Michael Wilhelm, Chief, Policy and Licensing Division, Public Safety and Homeland Security Bureau, at (202) 418-0870 or Jon Markman, Attorney Advisor, Mobility Division, Wireless Telecommunications Bureau at (202) 418-7090.

SUPPLEMENTARY INFORMATION: In 2018, the Commission issued a Sixth Further Notice of Proposed Rulemaking (83 FR 20011), which sought comment on proposals to stimulate expanded use of and investment in the 4.9 GHz band. In order to stabilize the 4.9 GHz spectrum landscape and to maximize the Commission's flexibility in considering the appropriate rules governing the band, the Bureaus now suspend the acceptance and processing of certain 4.9 GHz band license applications.

Imposition of the freeze is procedural and, therefore, not subject to the notice and comment and effective date requirements of the Administrative Procedure Act. We find good cause for not delaying the effective date of the freeze pending publication of this Public Notice in the Federal Register, because delay would undermine the purpose of the freeze, which is to ensure that new applications do not compromise the Commission's flexibility to modify the rules governing the band to the extent the public interest may warrant.

Federal Communications Commission.
David Furth,
Deputy Bureau Chief.

[FR Doc. 2020-22217 Filed 10-7-20; 8:45 am]

BILLING CODE 6712-01-P